DEPARTMENT OF LABOR

Employment and Training Administration

[TA-W-71,652]

Cooper Tools, Currently Known as Apex Tool Group, LLC, Hicksville, OH; Amended Certification Regarding Eligibility To Apply for Worker Adjustment Assistance

In accordance with Section 223 of the Trade Act of 1974, as amended (“Act”), 19 U.S.C. 2273, the Department of Labor issued a Certification of Eligibility to Apply for Worker Adjustment Assistance on April 27, 2010, applicable to workers of Cooper Tools, Hicksville, Ohio. The workers are engaged in activities related to the production. The notice was published in the Federal Register on May 28, 2010 (75 FR 30069).

At the request of the State agency, the Department reviewed the certification for workers of the subject firm. New information shows that in July, 2010, Apex Tool Group, LLC. purchased Cooper Tools and is currently known as Apex Tool Group, LLC. Some workers separated from employment at Cooper Tools had their wages reported under a separate unemployment insurance (UI) tax accounts for Cooper Tools, currently known as Apex Tool Group, LLC.

Accordingly, the Department is amending this certification to properly reflect this matter.

The intent of the Department's certification is to include all workers of the subject firm who were adversely affected by increased imports of air tools, torque wrenches and screwdrivers.

The amended notice applicable to TA-W-71,652 is hereby issued as follows:

All workers of Cooper Tools, currently known as Apex Tool Group, LLC, Hicksville, Ohio, who became totally or partially separated from employment on or after July 13, 2008 through April 27, 2012, and all workers in the group threatened with total or partial separation from employment on date of certification through two years from the date of certification, are eligible to apply for adjustment assistance under Chapter 2 of Title II of the Trade Act of 1974, as amended.

Signed at Washington, DC, this 3rd day of March 2011.
Elliott S. Kushner,
Certifying Officer, Division of Trade Adjustment Assistance.

[FR Doc. 2011-5653 Filed 3-11-11; 8:45 am]

BILLING CODE 4510-FN-P